DEPARTMENT OF THE INTERIOR

Office of Natural Resources Revenue

30 CFR Part 1206

[Docket No. ONRR-2011-0016; DS63644000 DRT000000.CH7000 223D1113RT]

RIN 1012-AA07

Amendments to OMB Control Numbers and Certain Forms; Correction

AGENCY: Office of Natural Resources Revenue (“ONRR”), Interior.

ACTION: Correcting amendment.

SUMMARY: On December 8, 2011, ONRR published a direct final rule that, among other things, corrected a thermal energy displaced equation without updating an image of the equation set forth in the regulations for illustration purposes. This document provides a replacement thermal energy displaced equation image.

DATES: This rule is effective on August 24, 2023.

FOR FURTHER INFORMATION CONTACT: For questions concerning this direct final rulemaking, contact Luis Aguilar, Regulatory Specialist, by phone at (303) 231-3418, or by email at ONRR_RegulationsMailbox@onrr.gov.

SUPPLEMENTARY INFORMATION: ONRR published a direct final rule in the Federal Register on December 8, 2011 (76 FR 76612). ONRR amended the thermal energy displaced equation in § 1206.356(a)(2) from “0.113681” to “0.133681.” Section 1206.356(a)(2) contained an image of the equation for illustration purposes. However, ONRR did not provide an updated equation image. This document provides the correct equation image.

List of Subjects in 30 CFR Part 1206

Coal, Continental shelf, Government contracts, Indian lands, Mineral royalties, Oil and gas exploration, Public lands—mineral resources, Reporting and recordkeeping requirements.

Accordingly, ONRR amends 30 CFR part 1206 by making the following correcting amendment.

PART 1206—PRODUCT VALUATION

1. The authority citation for part 1206 continues to read as follows:

Authority: 5 U.S.C. 301 et seq., 25 U.S.C. 396, 396a et seq., 398, 398a et seq., 2101 et seq.; 30 U.S.C. 181 et seq., 351 et seq., 1001 et seq., 1701 et seq.; 43 U.S.C. 1301 et seq., 1331 et seq., and 1801 et seq.

2. In § 1206.356, amend paragraph (a)(2) by revising the equation to read as follows:

§ 1206.356 How do I calculate royalty or fees due on geothermal resources I use for direct use purposes?

* * * * *

(a) * * *

(2) * * *

* * * * *

Howard Cantor,
Director, Office of Natural Resources Revenue.

[FR Doc. 2023-18096 Filed 8-23-23; 8:45 am]

BILLING CODE 4335-30-P